DEPARTMENT OF ENERGY

Federal Energy Regulatory Commission

[Docket No. RP00-179-000]

Dauphin Island Gathering Partners; Notice of Proposed Changes in FERC Gas Tariff

February 14, 2000.

Take notice that on February 4, 2000, Dauphin Island Gathering Partners (DIGP) tendered for filing as part of its FERC Gas Tariff, First Revised Volume No. 1, the tariff sheets listed below to become effective February 8, 2000. The modifications to the listed tariff sheets are proposed to provide revisions reflecting new contracts that have been negotiated.

Second Revised Sheet No. 9

Original Sheet No. 9A

DIGP states that a copy of this filing is available for public inspection during regular business hours at DIGP's office at 370 17th Street, Suite 900, Denver, Colorado 80202.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-3900 Filed 2-17-00; 8:45 am]

BILLING CODE 6717-01-M